DEPARTMENT OF EDUCATION

34 CFR Chapter III

[CFDA Number: 84.133B-8]

Proposed Priority—National Institute on Disability and Rehabilitation Research—Rehabilitation Research and Training Centers

AGENCY: Office of Special Education and Rehabilitative Services, Department of Education.

ACTION: Proposed priority.

SUMMARY: The Assistant Secretary for Special Education and Rehabilitative Services proposes a priority for the Rehabilitation Research and Training Center (RRTC) Program administered by the National Institute on Disability and Rehabilitation Research (NIDRR). Specifically, this notice proposes a priority for an RRTC on Disability in Rural Areas. The Assistant Secretary may use this priority for competitions in fiscal year (FY) 2013 and later years. We take this action to focus research attention on areas of national need. We intend the priority to contribute to improved outcomes for individuals with disabilities who live in rural areas.

DATES: We must receive your comments on or before June 6, 2013.

ADDRESSES: Address all comments about this notice to Marlene Spencer, U.S. Department of Education, 400 Maryland Avenue SW., Room 5133, Potomac Center Plaza (PCP), Washington, DC 20202-2700.

If you prefer to send your comments by email, use the following address: marlene.spencer@ed.gov. You must include the phrase “Proposed Priority for an RRTC on Disability in Rural Areas” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This notice of proposed priority is in concert with NIDRR's Long-Range Plan for Fiscal Years 2013-2017 (Plan). The Plan, which was published in the Federal Register on April 4, 2013 (78 FR 20299), can be accessed on the Internet at the following site: http://www.gpo.gov/fdsys/pkg/FR-2013-04-04/pdf/2013-07879.pdf.

Through the implementation of the Plan, NIDRR seeks to improve outcomes for individuals with disabilities in the domains of health and function, employment, and community living through comprehensive programs of research, engineering, training, technical assistance, and knowledge translation and dissemination. The Plan reflects NIDRR's commitment to quality, relevance, and balance in its programs to ensure appropriate attention to all aspects of well-being of individuals with disabilities and to all types and degrees of disability, including low-incidence and severe disabilities.

This notice proposes one priority, which NIDRR intends to use for a competition in FY 2013 and possibly later years. However, nothing precludes NIDRR from publishing additional priorities, if needed. Furthermore, NIDRR is under no obligation to make an award using this priority. The decision to make an award will be based on the quality of applications received and available funding.

Invitation to Comment: We invite you to submit comments regarding this priority. To ensure that your comments have maximum effect in developing the final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act, as amended, through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

Proposed Priority

This notice contains one proposed priority.

RRTC on Disability in Rural Areas

Background

The rate of disability in rural areas is higher than in urban areas. The United States Census Bureau estimates that individuals with disabilities make up 13.2 percent of the total civilian, noninstitutionalized population who live in rural communities. By comparison, the comparable rate of disability in urban areas (metropolitan and micropolitan) is 11.6 percent (U.S. Census Bureau, 2011a).

Living in a rural environment presents unique challenges. Compared to those living in nonrural areas, people living in rural areas tend to be more geographically dispersed and generally have less access to public transportation (Brown, 2008), employment and educational opportunities (White House Council of Economic Advisors, 2010; Brown, 2008), and health networks and health care providers (Jones et al. 2009; West and Mackenzie, 2011). Further, significantly fewer individuals living in rural areas have high-speed broadband connections for their computers or telecommunications devices, which affects many aspects of their life (Federal Communications Commission, 2011).

NIDRR funds research on the experiences and outcomes of individuals with disabilities in the following three domains: Health and function, employment, and community living and participation. Individuals with disabilities who live in rural areas where essential services are often limited face difficulties in each of these domains. For example, limited networks of doctors in rural areas often make it difficult for individuals with disabilities to find local primary care and specialty doctors who understand their disabling conditions and their related health care needs (Iezzoni, Killeen, & O'Day, 2006).

The types and rates of community participation and social engagement also differ between individuals with disabilities in rural and nonrural areas. Individuals with disabilities who live in rural areas are less likely to be employed than those in nonrural areas (U.S. Census Bureau, 2011b), and rural vocational rehabilitation clients with severe disabilities are less likely than those with severe disabilities in nonrural areas to achieve successful employment outcomes (Lustig, Weems & Strauser, 2004). In contrast, people with disabilities in rural areas have been found to be more likely than individuals with disabilities living in nonrural areas to participate in volunteer work and to attend community events (Nicholson & Cooper, 2012; McPhedran, 2011). Limited research suggests that individuals with disabilities who live in rural and nonrural areas have similar rates of contact with people across a wide range of settings but that individuals with disabilities in rural areas may not have as many close social relationships as those in nonrural areas (Nicholson & Cooper, 2012).

Research is needed in each of NIDRR's domains to generate new knowledge about the the experiences and outcomes of individuals with disabilities who are living in rural areas. This new knowledge is needed to improve the systems that provide support and services to individuals with disabilities in rural areas and their families. Specifically, there is a need for additional research to identify programs or interventions that can lead to improved employment, health and function, and community living and participation outcomes for individuals with disabilities in rural areas.

References

Brown, D. 2008. Public transportation on the move in rural America. Washington, DC: Economic Research Service, U.S. Department of Agriculture. Retrieved from: www.nal.usda.gov/ric/ricpubs/publictrans.htm.

Federal Communications Commission (2011). Bringing broadband to rural America: Update to report on a rural broadband strategy. Retrieved from: http://hraunfoss.fcc.gov/edocs_public/attachmatch/DOC-307877A1.pdf.

Iezzoni, L., Killeen, M., and O'Day, B. (2006). Rural residents with disabilities confront substantial barriers to obtaining primary care. Health Services Research, 41(4), 1258-1275.

Jones, C. A., Parker, T. S., Ahearn, M., Mishra, A.K., & Variyam, J.N. (2009). Health Status and Health Care Access of Farm and Rural Populations, Economic Information Bulletin, no. 57. Washington, DC: United States Department of Agriculture, Economic Research Service. Retrieved from: www.ers.usda.gov/media/155453/eib57_1_.pdf.

Lustig, D., Weems, G., and Strauser, D. (2004). Rehabilitation service patterns: A rural/urban comparison of success factors. Journal of Rehabilitation, 70(3), 13-19.

McPhedran, S. (2011). Disability and community life. Does regional living enhance social participation? Journal of Disability Policy Studies, 22(1), 40-54.

Nicholson, L., Cooper, S. (2012). Social exclusion and people with intellectual disabilities: a rural-urban comparison. Journal of Intellectual Disability Research. Retrieved from: http://onlinelibrary.wiley.com/doi/10.1111/j.1365-2788.2012.01540.x/pdf.

U.S. Census Bureau. (2011a). Percent of people with a disability—United States—Urban/Rural and Inside/Outside Metropolitan and Micropolitan Area. Retrieved from: http://factfinder2.census.gov/faces/tableservices/jsf/pages/productview.xhtml?pid=ACS_11_3YR_GCT1810.US26&prodType=table.

U.S. Census Bureau. (2011b). Employment to population ratio for people with a disability. Retrieved from: http://factfinder2.census.gov/faces/tableservices/jsf/pages/productview.xhtml?pid=ACS_11_3YR_GCT1811.US26&prodType=table.

West, A. & Mackenzie, T. (2011). Time Trends in Expenditures for Rural Veterans' Healthcare, Journal of Rural Social Sciences, 26(3), 181-200.

White House Council of Economic Advisors (2010), Strengthening the Rural Economy—The Current State of Rural America.” Retrieved from: www.whitehouse.gov/administration/eop/cea/factsheets-reports/strengthening-the-rural-economy/the-current-state-of-rural-america.

Proposed Priority

The Assistant Secretary for Special Education and Rehabilitative Services proposes a priority for a Rehabilitation Research and Training Center (RRTC) on Disability in Rural Areas. This RRTC must conduct rigorous research, and provide training, technical assistance, and information to improve the outcomes of individuals with disabilities who live in rural areas. The RRTC must:

(a) Conduct research that examines experiences and outcomes of individuals with disabilities who live in rural areas and apply the research findings to develop interventions that improve those outcomes. Applicants must focus their research activities on topics that fall under at least one of the following major life domains identified in NIDRR's Long-Range Plan for Fiscal Years 2013-2017 (78 FR 20299): Employment, Community Living and Participation, or Health and Function;

(b) Serve as a national resource center for individuals with disabilities living in rural areas, their families, service and support providers, and other stakeholders by conducting knowledge translation activities that include, but are not limited to:

(1) Providing information and technical assistance to service providers, individuals with disabilities living in rural areas and their representatives, and other key stakeholders;

(2) Providing training, including graduate, pre-service, and in-service training, to rehabilitation service providers and other disability service providers, to facilitate more effective delivery of services to individuals with disabilities living in rural areas. This training may be provided through conferences, workshops, public education programs, in-service training programs, and similar activities;

(3) Disseminating research-based information and materials related to living with a disability in rural areas; and

(c) Involve individuals with disabilities who live in rural areas in planning and implementing the RRTC's activities, and in evaluating the RRTC's work.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTCs have been completed successfully, and the proposed priority will generate new knowledge through research. The new RRTCs will generate, disseminate, and promote the use of new information that would improve outcomes for individuals with disabilities who live in rural areas in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 1, 2013.
Michael K. Yudin,
Delegated the authority to perform the functions and duties of the Assistant Secretary for Special Education and Rehabilitative Services.

[FR Doc. 2013-10833 Filed 5-6-13; 8:45 am]

BILLING CODE 4000-01-P